DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Targeted Capacity Expansion Grants for Jail Diversion Program Evaluation—In Use Without Approval

The Substance Abuse and Mental Health Services Administration's (SAMHSA), Center for Mental Health Services (CMHS) has implemented the Targeted Capacity Expansion Grants for Jail Diversion Programs. CMHS has developed a set of client outcome measures that will be collected over the length of the program.

Each jail diversion program participant has been approached to request their consent for participation. The main components of the baseline, 6- and 12-month interviews are Government Performance and Results Act (GPRA) measures. In addition to GPRA measures, the interviews include the following measures:

• DC Trauma Collaboration Study Violence and Trauma Screening to gauge traumatic events in the past year and lifetime (Baseline only)

• Colorado Symptom Index 1991 to gauge symptoms of mental illness (All interviews)

• Perceived Coercion Scale (from MacArthur Mandated Community Treatment Survey) to enter jail diversion programs (Baseline only)

• Mental Health Statistics Improvement Program quality of life measures (6 and 12 months only)

• Service use (6 and 12 months only)

In addition to data collected through interviews, grantees will collect the following information and will report it to the Technical Assistance and Policy Analysis (TAPA) Center:

• Events Tracking: This program captures the volume of activities (“events”) that jail diversion programs engage in to determine whom the program will serve.

• Person Tracking: This program is designed to record basic information on all individuals who are diverted and served with grant funds. It also helps grantees keep track of interview dates for those program participants who agree to take part in the evaluation.

• Service Use: Grantees collect self-reported data on services provided or information from official sources, such as statewide/agency management information systems or other agency records about the types of services received following diversion. This data must be provided to the TAPA Center.

• Arrest and Jail Days Data: Grantees report arrest and jail days data collected from official sources, such as a statewide criminal justice database, or that have been tracked for themselves for one year prior and one year following diversion.

As mentioned above, grantees collect this data from official sources or self-report data from their programs and submit it to the TAPA Center. This data is reported to the technical assistance provider through an electronic database system or through paper copies. Resulting compiled data is used to provide information of interest to policy makers, researchers, and communities engaged in developing jail diversion programs.

Project: (Title)—Revision

2006 Annual Reporting Burden
Data collection activity | Number of respondents | Responses per respondent | Total responses | Average hours per response | Total hour burden
Client Interviews:
Baseline (at enrollment) ¹ | 600 | 1 | 600 | .75 | ² 288
6 months | 480 | 1 | 480 | .75 | ² 263
12 months | 380 | 1 | 380 | .75 | ² 205
Subtotal | 1,460 |  | 1,460 |  | 756
Record Management by Grantee Staff:
Events Tracking | 16 | ³ 2,400 | 38,400 | .03 | 1,152
Person Tracking | 16 | 50 | 800 | .10 | ⁴ 52
Service Use ⁵ | 16 | 25 | 400 | .17 | 68
Arrest History ⁵ | 16 | 25 | 400 | .17 | 68
Subtotal | 64 |  | 40,000 |  | 1,340
FY2003, FY2004 and FY2005 Grantees:
Interview and Tracking data submission | 16 | 12 | 192 | .17 | 33
Overall Total: | 1,540 |  | 41,652 |  | 2,129
¹ Only those program enrollees agreeing to participate in the evaluation receive a Baseline interview.
² This estimate is an added burden proportion which is an adjustment reflecting the extent to which programs typically already collect the data items. The formula for calculating the proportion of added burden is: total number of items in the standard instrument, minus the number of core items currently included, divided by the total number of items in the standard instrument. For the TCE Initiative's interviews the estimates were calculated as follows: For the Baseline interview the burden estimate = 450 times 0.64 (the proportion of added burden) = 288. For the 6-Month interview the burden estimate = 360 times 0.73 (the proportion of added burden) = 263. For the 12-Month interview the burden estimate = 285 times 0.72 (the proportion of added burden) = 205.
³ The number of responses per respondent for the Events Tracking depends on the design of the jail diversion program and can range from a single screening for eligibility to four separate screenings; here 2 responses represents the average number of responses per respondent based on the experience of the previous grantees.
⁴ For the Person Tracking program the burden estimate was calculated as follows: 80 times 0.65 (the proportion of added burden) = 52 (see Footnote 2 above for more information about the burden proportion).
⁵ Record management forms (Service Use and Arrest) are only completed for those evaluation participants who receive both a Baseline interview and at least one follow-up (6- and/or 12-month) interview.

2007 Annual Reporting Burden
Data collection activity | Number of respondents | Responses per respondent | Total responses | Average hours per response | Total hour burden
Client Interviews:
Baseline (at enrollment)¹ | 330 | 1 | 330 | .75 | ² 159
6 months | 270 | 1 | 270 | .75 | ² 148
12 months | 210 | 1 | 210 | .75 | ² 114
Subtotal | 810 |  | 810 |  | 421
Record Management by Grantee Staff:
Events Tracking | 9 | ³ 2,400 | 21,600 | .03 | 648
Person Tracking | 9 | 50 | 450 | .10 | ⁴ 29
Service Use ⁵ | 9 | 25 | 225 | .17 | 38
Arrest History ⁵ | 9 | 25 | 225 | .17 | 38
Subtotal | 36 |  | 22,500 |  | 753
FY2004 and FY2005 Grantees:
Interview and Tracking data submission | 9 | 12 | 108 | .17 | 18
Overall Total: | 855 |  | 23,418 |  | 1,192
¹ Only those program enrollees agreeing to participate in the evaluation receive a Baseline interview.
² This estimate is an added burden proportion which is an adjustment reflecting the extent to which programs typically already collect the data items. The formula for calculating the proportion of added burden is: total number of items in the standard instrument, minus the number of core items currently included, divided by the total number of items in the standard instrument. For the TCE Initiative's interviews the estimates were calculated as follows: For the Baseline interview the burden estimate = 248 times 0.64 (the proportion of added burden) = 159. For the 6-Month interview the burden estimate = 203 times 0.73 (the proportion of added burden) = 148. For the 12-Month interview the burden estimate = 158 times 0.72 (the proportion of added burden) = 114.
³ The number of responses per respondent for the Events Tracking depends on the design of the jail diversion program and can range from a single screening for eligibility to four separate screenings; here 2 responses represents the average number of responses per respondent based on the experience of the previous grantees.
⁴ For the Person Tracking program the burden estimate was calculated as follows: 45 times 0.65 (the proportion of added burden) = 29 (see Footnote 2 above for more information about the burden proportion).
⁵ Record management forms (Service Use and Arrest) are only completed for those evaluation participants who receive both a Baseline interview and at least one follow-up (6- and/or 12-month) interview.

2008 Annual Reporting Burden
Data collection activity | Number of respondents | Responses per respondent | Total responses | Average hours per response | Total hour burden
Client Interviews:
Baseline (at enrollment) ¹ | 220 | 1 | 220 | .75 | ² 106
6 months | 180 | 1 | 180 | .75 | ² 99
12 months | 140 | 1 | 140 | .75 | ² 76
Subtotal | 540 |  | 540 |  | 281
Record Management by Grantee Staff:
Events Tracking | 6 | ³ 2,400 | 14,400 | .03 | 432
Person Tracking | 6 | 50 | 300 | .10 | ⁴ 20
Service Use ⁵ | 6 | 25 | 150 | .17 | 26
Arrest History ⁵ | 6 | 25 | 150 | .17 | 26
Subtotal | 24 |  | 15,000 |  | 504
FY2005 Grantees:
Interview and Tracking data submission | 6 | 12 | 72 | .17 | 12
Overall Total: | 570 |  | 15,612 |  | 797
¹ Only those program enrollees agreeing to participate in the evaluation receive a Baseline interview.
² This estimate is an added burden proportion which is an adjustment reflecting the extent to which programs typically already collect the data items. The formula for calculating the proportion of added burden is: total number of items in the standard instrument, minus the number of core items currently included, divided by the total number of items in the standard instrument. For the TCE Initiative's interviews the estimates were calculated as follows: For the Baseline interview the burden estimate = 165 times 0.64 (the proportion of added burden) = 106. For the 6-Month interview the burden estimate = 135 times 0.73 (the proportion of added burden) = 99. For the 12-Month interview the burden estimate = 105 times 0.72 (the proportion of added burden) = 76.
³ The number of responses per respondent for the Events Tracking depends on the design of the jail diversion program and can range from a single screening for eligibility to four separate screenings; here 2 responses represents the average number of responses per respondent based on the experience of the previous grantees.
⁴ For the Person Tracking program the burden estimate was calculated as follows: 30 times 0.65 (the proportion of added burden) = 20 (see Footnote 2 above for more information about the burden proportion).
⁵ Record management forms (Service Use and Arrest) are only completed for those evaluation participants who receive both a Baseline interview and at least one follow-up (6- and/or 12-month) interview.

The averages for the three years of evaluations are 988 responses, 26,894 total responses, and 1,373 hours of burden.

Written comments and recommendations concerning the proposed information collection should be sent by March 1, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: January 24, 2006.
Anna Marsh,
Director, Office of Program Services.

[FR Doc. E6-1093 Filed 1-27-06; 8:45 am]

BILLING CODE 4162-20-P